DEPARTMENT OF TRANSPORTATION

Federal Highway Administration

[Docket No. FHWA 2006-25064]

Agency Information Collection Activities: Request for Comments for New Information Collection

AGENCY: Federal Highway Administration (FHWA), DOT.

ACTION: Notice and request for comments.

SUMMARY: The FHWA invites public comment about our intentions to request the Office of Management and Budget (OMB) approval for a new information collection, which is summarized below under SUPPLEMENTARY INFORMATION. We are required to publish this notice in the Federal Register by the Paperwork Reduction Act of 1995.

DATES: Please submit comments by August 18, 2006.

ADDRESSES: You may submit comments identified by DOT DMS Docket Number FHWA-2006-25064 to the Docket Clerk, by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

Docket: For access to the docket to read background documents or comments received go to http:// dms.dot.gov at any time or to Room 401 on the plaza level of the Nassif Building, 400 Seventh Street, SW., Washington, DC, between 9 a.m. and 5 p.m., Monday through Friday, except Federal holidays.

FOR FURTHER INFORMATION CONTACT: Mr. Chien-Tan Chang, Office of Bridge Technology, HIBT-1, (202) 366-6749, Fax (202) 366-3077, or e-mail chien-tan.chang@dot.gov. For legal questions, please contact Mr. Robert Black, Office of the Chief Counsel, (202) 366-1359, robert.black@fhwa.dot.gov; Federal Highway Administration, Department of Transportation, 400 Seventh Street, SW., Washington, DC 20590. Office hours are from 7:45 a.m. to 4:15 p.m., e.t. Monday through Friday, except Federal holidays.

SUPPLEMENTARY INFORMATION:

Title: Innovative Bridge Research and Deployment (IBRD) Program

Background

Congress established the Innovative Bridge Research and Construction program, the predecessor of the IBRD program, in the Transportation Equity Act for the 21st Century (TEA-21) (Pub. L. 105-178). The IBRC program was continued in SAFETEA-LU, but was renamed as the IBRD program. Funds are provided to the States under as the IBRD program to pay the Federal share of the cost of projects that demonstrate innovative accelerated bridge design and construction technology and the application of innovative material technology in the repair, rehabilitation, replacement, or new construction of bridges and other highway structures. For each of the fiscal years 2005 through 2009, approximately $13.1 million will be available. For FY 2006, approximately $2.2 million is available for the IBRC program, and approximately $5.1 million for the IBRD program after reduction of funds pursuant to the Departments of Transportation, Treasury, Housing and Urban Development, the Judiciary, and the District of Colombia, independent Agencies Appropriations Act 2006 (Pub. L. 109-115, Nov. 30, 2005) the Department of Defense, Appropriations Act 2006 (Pub. L. 109-148, Dec. 30, 2005), and Section 5202(b)(3)(B) of the Safe, Accountable, Flexible, Efficient Transportation Equity Act: Legacy for Users (SAFETEA-LU). The IBRD activities include identification and selection of candidate projects from 50 State DOTs, Puerto Rico and the District of Columbia, which meet one or more goals of the program as established by the Congress. Approximately 25 projects will be selected that meet one or more program goals as follows:

A. The development of new, cost-effective, innovative highway bridge applications;

B. The development of construction techniques to increase safety and reduce construction time and traffic congestion;

C. The development of engineering design criteria for innovative products, materials, and structural systems for use in highway bridges and structures;

D. The reduction of maintenance costs and life-cycle costs of bridges, including costs of new construction, replacement or rehabilitation of deficient bridges;

E. The development of highway bridges and structures that will withstand natural disasters;

F. The documentation and wide dissemination of objective evaluations of the performance and benefits of these innovative designs, materials, and construction methods;

G. The effective transfer of resulting information and technology; and,

H. The development of improved methods to detect bridge scour and economical bridge foundation designs that will withstand bridge scour.

Additional activities include collection of project information; documentation, promotion and wide dissemination of objective evaluations of the performance and benefits of these innovative designs, materials, and construction methods resulting from the project studies.

Respondents: 50 State Departments of Transportation, the District of Columbia and Puerto Rico.

Frequency: Annual.

Estimated Average Burden per Response: 1 hour.

Estimated Total Annual Burden Hours: It is estimated that a total of 100 responses will be received to give us a total annual burden of 100 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

James R. Kabel,
Chief, Management Programs and Analysis Division.

[FR Doc. E6-9583 Filed 6-16-06; 8:45 am]

BILLING CODE 4910-22-P